DEPARTMENT OF ENERGY

Federal Energy Regulatory Commission

[Docket No. IC24-8-000]

Commission Information Collection Activities (FERC-598); Comment Request

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection FERC-598 (Self-Certification for Entities Seeking Exempt Wholesale Generator or Foreign Utility Company Status).

DATES: Comments on the collection of information are due March 25, 2024.

ADDRESSES: You may submit comments (identified by Docket No. IC24-8-000) by any of the following methods:

• eFiling at Commission's Website: http://www.ferc.gov/docs-filing/efiling.asp.

• U.S. Postal Service Mail: Persons unable to file electronically may mail similar pleadings to the Federal Energy Regulatory Commission, 888 First Street NE, Washington, DC 20426.

• Effective July 1, 2020, delivery of filings other than by eFiling or the U.S. Postal Service should be delivered to Health and Human Services, 12225 Wilkins Avenue, Rockville, Maryland 20852.

Instructions: All submissions must be formatted and filed in accordance with submission guidelines at: http://www.ferc.gov. For user assistance, contact FERC Online Support by email at: ferconlinesupport@ferc.gov, or by phone at: (866) 208-3676 (toll-free).

Docket: Users interested in receiving automatic notification of activity in this docket or in viewing/downloading comments and issuances in this docket may do so at: https://www.ferc.gov.

FOR FURTHER INFORMATION CONTACT: Jean Sonneman may be reached by email at DataClearance@FERC.gov or by telephone at (202) 502-6362.

SUPPLEMENTARY INFORMATION:

Title: FERC-598, Self-Certification for Entities Seeking Exempt Wholesale Generator or Foreign Utility Company Status.

OMB Control No.: 1902-0166.

Type of Request: Three-year renewal of FERC-598.

Abstract: Under 42 U.S.C. 16452(a), public utility holding companies and their associates must maintain, and make available to the Commission, certain books, accounts, memoranda, and other records. The pertinent records are those that the Commission has determined: (1) are relevant to costs incurred by a public utility or natural gas company that is an associate company of such holding company; and (2) are necessary or appropriate for the protection of utility customers with respect to jurisdictional rates.

Public utility holding companies and their associates may seek exemption from this requirement. The pertinent statutory and regulatory provisions, 42 U.S.C. 16454 and 18 CFR 366.7, authorize such entities to file with the Commission a notice of self-certification demonstrating that they are “exempt wholesale generators” (EWGs) or “foreign utility companies” (FUCOs). If the Commission takes no action on a good-faith self-certification filing within 60 days after the date of filing, the applicant is exempt from the requirements of 42 U.S.C. 16452(a).

An EWG is defined as “any person engaged directly, or indirectly through one or more affiliates . . . and exclusively in the business of owning or operating, or both owning and operating, all or part of one or more eligible facilities and selling electric energy at wholesale.” ¹ A FUCO is defined as “any company that owns or operates facilities that are not located in any state and that are used for the generation, transmission, or distribution of electric energy for sale or the distribution at retail of natural or manufactured gas for heat, light, or power, if such company: (1) derives no part of its income, directly or indirectly, from the generation, transmission, or distribution of electric energy for sale or the distribution at retail of natural or manufactured gas for heat, light, or power, within the United States; and (2) [n]either the company nor any of its subsidiary companies is a public-utility company operating in the United States.” ²

¹ 18 CFR 366.1.

² Id.

In the case of EWGs, the person filing a notice of self-certification must also file a copy of the notice of self-certification with the state regulatory authority of the state in which the facility is located. In addition, that person must represent to the Commission in its submission that it has filed a copy of the notice with the appropriate state regulatory authority.³

³ 18 CFR 366.7(a).

Type of Respondents: EWGs and FUCOs.

Estimate of Annual Burden: ⁴ The Commission estimates the total annual burden and cost ⁵ for this information collection as follows.

⁴ “Burden” is the total time, effort, or financial resources expended by persons to generate, maintain, retain, or disclose or provide information to or for a Federal agency. For further explanation of what is included in the information collection burden, refer to 5 CFR 1320.3.

⁵ The Commission staff thinks that the average respondent for this collection is similarly situated to the Commission, in terms of salary plus benefits. Based upon FERC's FY 2024 annual full-time equivalent average of $207,786 (for salary plus benefits), the average hourly cost is $100 per hour.

FERC-598
[Self-certification for entities seeking exempt wholesale generator status or foreign utility company status]
A. Number of respondents (EWGs and FUCOs) | B. Annual number of responses per respondent | C. Total number of responses | D. Average burden hrs. & cost ($) per response | E. Total annual burden hours & total annual cost | F. Average cost per respondent ($)
|  | (Column A × Column B) |  | (Column C × Column D) | (Column E ÷ Column 1)
300 | 1 | 300 | 6 hrs.; $600 | 1,800 hrs.; $180,000 | $600

Comments: Comments are invited on: (1) whether the collection of information is necessary for the proper performance of the functions of the Commission, including whether the information will have practical utility; (2) the accuracy of the agency's estimate of the burden and cost of the collection of information, including the validity of the methodology and assumptions used; (3) ways to enhance the quality, utility, and clarity of the information collection; and (4) ways to minimize the burden of the collection of information on those who are to respond, including the use of automated collection techniques or other forms of information technology.

Dated: January 18, 2024.
Debbie-Anne A. Reese,
Acting Secretary.

[FR Doc. 2024-01381 Filed 1-24-24; 8:45 am]

BILLING CODE 6717-01-P